DEPARTMENT OF JUSTICE

Antitrust Division

Notice Pursuant to the National Cooperative Research and Production Act of 1993—National Small Arms Technology Consortium

Notice is hereby given that, on April 1, 2004, pursuant to section 6(a) of the National Cooperative Research and Production Act of 1993, 15 U.S.C. 4301 et seq. (“the Act”), the National Small Arms Technology Consortium (“NSATC”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are AAI Corporation, Hunt Valley, MD; Accent on Creativity, Newton, NJ; Alliant Techsystems, Inc., Plymouth, MN; ALTARUM, Ann Arbor, MI; AMBRICK, USA, Poland, OH; American Ordnance LLC, Pittsburg, KS; American Systems Corporation, Dumfries, VA; Applied Ordnance Technology, Inc., Dover, NJ; ARMALITE, Geneseo, IL,; ATI, North Charleston, SC; Barrett Firearms, Murfreesboro, TN; Batelle Memorial Institute, Columbus, OH; Batelle Memorial Institute, Lake Hiawatha, NJ; Batelle Memorial Institute, Aberdeen, MD; Beretta USA, Accokeek, MD; BES Systems, Inc., New York, NY; Blackwater Target Systems, Noyock, NC; Brashear LP, Pittsburg, PA; Computer Aided Engineering Associates, Inc., Flanders, NJ; CAPO Inc., Grand Junction, CO; Cape Aerospace, Cape Coral, FL; Colt Defense LLC, West Hartford, Connecticut; ELCAN Optical Technologies, Midland, Ontario, CANADA; Engineering and Management Executives, Inc., Alexandria, VA; FN Herstal S.A., Herstal, BELGIUM; FN Herstal USA, Inc., McLean, VT; FN Manufacturing, Columbia, SC; General Dynamics Armament and Technical Products, Burlington, VT; GLOCK, Inc., Solvay, NY; Hekler and Koch, Inc., Sterling, VA; Idaho National Engineering and Environmental Laboratory, Idaho Falls, ID; KamanDayron, Orlando, FL; Los Alamos National Laboratory, Los Alamos, NM; Mechanical Solutions, Inc., Parsippany, NJ; MER Corporation, Tucson, AZ; Meprolight, Inc., Washignton, DC; Metal Storm LTD, Arlington, VA; New Jersey Institute of Technology, Newark, NJ; O.F. Mossberg, North Haven, CT; Pacific Scientific, Inc., San Carlos, CA; Polymer Technologies, Inc., Clifton, NJ; Remington Arms Company, Inc., Lonoke, AR; Saint Marks Powder, General Dynamics Tactical Systems, Dover, NJ; Sandia National Laboratories, Albuquerque, NM; SIGARMS, Rockville, MD; Smith and Wesson, Springfield, MA; S.H. Smith Associates, Hoboken, NJ; Stevens Institute of Technology, Hoboken, NJ; Tanner Research, Pasadena, CA; Universal Chemical, Stuart, FL; University of Florida, Shalimar, FL; University of Missouri at Rolla, Rolla, Missouri; Western Design, Irvine, CA; and Wise Web Connection, Dover, NJ.

The nature and objectives of the venture are (1) to conduct research and development activities in the area of small arms weapons systems technology; (2) to enter into a Section 845 “Other Transactions” Agreement (the “OT Agreement”) with the US Army (the “Government”) for the funding of certain research and development to be conducted, in partnership with the Government and other NSATC Members, for the US Army National Small Arms Center (NSAC) in the area of small arms weapons systems; (3) to develop, maintain, and execute a flexible multi-year master research plan in the area of small arms weapons systems technology that clearly defines performance goals and maximizes the collective capabilities of Government, industry and academia and focus those capabilities toward attainment of sound technical solutions consistent with these goals; (4) to provide a unified and coordinated message to the US Government's legislative branch and the Department of Defense (DOD) community as to the strategically important role small arms weapons and munitions technologies will play in current and future weapons system development; and (5) to define programs and obtain program funding that is focused on the development, demonstration and transition of key technologies that will result in current weapons system improvements or the fielding of new systems. Production of field worthy products based on the R&D activities of the NSATC or technologies developed by the NSATC is limited to prototypes and, in certain cases, early production. All other production will be done outside the consortium.

Dorothy B. Fountain,
Deputy Director of Operations, Antitrust Division.

[FR Doc. 04-12059 Filed 5-27-04; 8:45 am]

BILLING CODE 4410-11-M